DEPARTMENT OF HOMELAND SECURITY

Federal Emergency Management Agency

44 CFR Part 65

[Docket No. FEMA-B-7451]

Changes in Flood Elevation Determinations

AGENCY: Federal Emergency Management Agency (FEMA), Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E. Hazard Identification Section, Mitigation Division, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act. This rule is categorically excluded from the requirements of 44 CFR part 10, Environmental Consideration. No environmental impact assessment has been prepared.

Regulatory Flexibility Act. The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | City of Avondale (04-09-0552P) | January 6, 2005, January 13, 2005, Arizona Republic | The Honorable Ronald J. Drake, Mayor, City of Avondale, 525 North Central Avenue, Avondale, Arizona 85323 | December 21, 2004 | 040038
Maricopa | Town of Carefree (04-09-1301P) | December 23, 2004, December 30, 2004, Arizona Business Gazette | The Honorable Edward C. Morgan, Mayor, Town of Carefree, P.O. Box 740, Carefree, Arizona 85377 | November 24, 2004 | 040126
Maricopa | City of Goodyear (04-09-1512P) | December 2, 2004, December 9, 2004, Arizona Business Gazette | The Honorable James M. Cavanaugh, Mayor, City of Goodyear, 190 North Litchfield Road, Goodyear, Arizona 85338 | March 10, 2005 | 040046
Maricopa | City of Phoenix (03-09-0448P) | December 2, 2004, December 9, 2004, Arizona Business Gazette | The Honorable Phil Gordon, Mayor, City of Phoenix, 200 West Washington Street, 11th Floor, Phoenix, Arizona 85003-1611 | March 10, 2005 | 040051
Maricopa | City of Phoenix (04-09-0381P) | December 23, 2004, December 30, 2004, Arizona Business Gazette | The Honorable Phil Gordon, Mayor, City of Phoenix, 200 West Washington Street, 11th Floor, Phoenix, Arizona 85003-1611 | March 30, 2005 | 040051
Maricopa | City of Scottsdale (04-09-1301P) | December 23, 2004, December 30, 2004, Arizona Business Gazette | The Honorable Mary Manross, Mayor, City of Scottsdale, 3939 North Drinkwater Boulevard, Scottsdale, Arizona 85251 | November 24, 2004 | 045012
Maricopa | Unincorporated Areas (03-09-1190P) | October 21, 2004, October 28, 2004, Arizona Business Gazette | The Honorable Andrew W. Kunasek, Chairman, Maricopa County Board of Supervisors, 301 West Jefferson Street, 10th Floor, Phoenix, Arizona 85003 | October 12, 2004 | 040037
Maricopa | Unincorporated Areas (04-09-0552P) | January 6, 2005, January 13, 2005, Arizona Republic | The Honorable Andrew W. Kunasek, Chairman, Maricopa County Board of Supervisors, 301 West Jefferson Street, 10th Floor Phoenix, Arizona 85003 | December 21, 2004 | 040037
Pima | Town of Marana (03-09-1071P) | December 2, 2004, December 9, 2004, Tucson Citizen | The Honorable Bobby Sutton, Jr., Mayor, Town of Marana, 13251 North Lon Adams Road, Marana, Arizona 85653 | March 10, 2005 | 040118
Pima | Town of Marana (04-09-0697P) | December 16, 2004, December 23, 2004, Daily Territorial | The Honorable Bobby Sutton, Jr., Mayor, Town of Marana, 13251 North Lon Adams Road, Marana, Arizona 85653 | March 23, 2005 | 040118
Pima | Unincorporated Areas (03-09-1071P) | December 2, 2004, December 9, 2004, Tucson Citizen | The Honorable Sharon Bronson, Chair, Pima County Board of Supervisors, 130 West Congress Street, 11th Floor, Tucson, Arizona 85701 | March 10, 2005 | 040073
Pima | Unincorporated Areas (03-09-1300P) | November 10, 2004, November 18, 2004, Daily Territorial | The Honorable Sharon Bronson, Chair, Pima County Board of Supervisors, 130 West Congress Street, 11th Floor, Tucson, Arizona 85701 | October 26, 2004 | 040073
Pinal | Unincorporated Areas (03-09-1071P) | December 1, 2004, December 8, 2004, Copper Basin News | The Honorable Lionel D. Ruiz, Chairman, Pinal County Board of Supervisors, P.O. Box 827, Florence, Arizona 85232 | March 10, 2005 | 040077
Yuma | Unincorporated Areas of (04-09-0557P) | December 23, 2004, December 30, 2004, Yuma Sun | The Honorable Lucy Shipp, Chairman, Yuma County Board of Supervisors, 198 South Main Street, Yuma, Arizona 85364 | March 30, 2005 | 040099
California:
Butte | City of Chico (04-09-0415P) | December 23, 2004, December 30, 2004, Chico Enterprise-Record | The Honorable Maureen Kirk, Mayor, City of Chico, P.O. Box 3420, Chico, California 95927 | March 31, 2005 | 060746
Butte | Unincorporated Areas (04-09-0415P) | December 23, 2004, December 30, 2004, Chico Enterprise-Record | The Honorable Robert J. Beeler, Chairman, Butte County Board of Supervisors, Butte County Administration Center, 25 County Center Drive, Oroville, California 95965 | March 31, 2005 | 060017
Los Angeles | City of Palmdale (04-09-1388P) | December 2, 2004, December 9, 2004, Los Angeles Times | The Honorable James C. Ledford, Jr., Mayor, City of Palmdale, 38300 North Sierra Highway, Palmdale, California 93550-4798 | March 10, 2005, | 060144
Los Angeles | Unincorporated Areas (04-09-1388P) | December 2, 2004, December 9, 2004, Los Angeles Times | The Honorable Don Knabe, Chairman, Los Angeles County Board of Supervisors, 500 West Temple Street, Room 866, Los Angeles, California 90012 | March 10, 2005 | 065043
San Diego | City of Poway (03-09-1583P) | January 27, 2005, February 3, 2005, Poway News Chieftain | The Honorable Mickey Cafagna, Mayor, City of Poway, P.O. Box 789, Poway, California 92074-0789 | May 5, 2005 | 060702
San Diego | City of San Diego (04-09-1311P) | November 4, 2004, November 11, 2004, San Diego Daily Transcript | The Honorable Dick Murphy, Mayor, City of San Diego, 202 C Street, 11th Floor, San Diego, California 92101 | February 10, 2005 | 060295
Colorado:
Boulder | City of Boulder (04-08-0494P) | November 10, 2004, November 17, 2004, Boulder Daily Camera | The Honorable William R. Toor, Mayor, City of Boulder, P.O. Box 791, Boulder, Colorado 80306 | November 1, 2004 | 080024
Boulder | Unincorporated Areas (04-08-0494P) | November 10, 2004, November 17, 2004, Boulder Daily Camera | The Honorable Paul Danish, Chairman, Boulder County Board of Commissioners, P.O. Box 471, Boulder, Colorado 80306 | November 1, 2004 | 080023
El Paso | Unincorporated Areas (04-08-0587P) | November 10, 2004, November 17, 2004, El Paso County News | The Honorable Chuck Brown, Chair, El Paso County Board of Commissioners, 27 East Vermijo Avenue, Colorado Springs, Colorado 80903-2208 | February 16, 2005 | 080059
El Paso | Unincorporated Areas (04-08-0427P) | January 19, 2005, January 26, 2005, El Paso County News | The Honorable Chuck Brown, Chair, El Paso County Board of Commissioners, 27 East Vermijo Avenue, Colorado Springs, Colorado 80903-2208 | April 27, 2005 | 080059
Weld | Town of Windsor (04-08-0430P) | November 26, 2004, December 3, 2004, Windsor Daily Tribune | The Honorable Edward Starck, Mayor, Town of Windsor, 301 Walnut Street, Windsor, Colorado 80550 | March 4, 2005 | 080264
Iowa:
Linn | City of Cedar Rapids (04-07-A097P) | October 14, 2004, October 21, 2004, Cedar Rapids Gazette | The Honorable Paul D. Pate, Mayor, City of Cedar Rapids, City Hall, Third Floor, 50 Second Avenue Bridge, Cedar Rapids, Iowa 52401 | September 21, 2004 | 190187
Linn | City of Marion (04-07-A097P) | October 14, 2004, October 21, 2004, Cedar Rapids Gazette | The Honorable John Nieland, Mayor, City of Marion, 1100 Eighth Avenue, Marion, Iowa 52302 | September 21, 2004 | 190191
Nebraska:
Hall | City of Grand Island (04-07-A319P) | November 4, 2004, November 11, 2004, Grand Island Independent | The Honorable Jay Vavricek, Mayor, City of Grand Island, P.O. Box 1968, Grand Island, Nebraska 68802 | October 19, 2004 | 310103
Hall | Unincorporated Areas (04-07-A319P) | November 4, 2004, November 11, 2004, Grand Island Independent | The Honorable Pamela E. Lancaster, Chair, Hall County Board of Supervisors, 2809 Apache Road, Grand Island, Nebraska 68801 | October 19, 2004 | 310100
Nevada: Nye | Unincorporated Areas (04-09-0133P) | November 4, 2004, November 11, 2004, Tonopah Times Bonanza and Goldfield News | The Honorable Henry Neth, Chairman, Nye County Board of Commissioners, P.O. Box 153, Tonopah, Nevada 89049 | November 8, 2004 | 320018
Ohio: Fairfield | Unincorporated Areas (04-05-A672P) | December 9, 2004, December 16, 2004, Lancaster Eagle-Gazette | The Honorable Judith K. Shupe, Fairfield County Commissioner, County Courthouse, 210 East Main Street, Lancaster, Ohio 43130 | March 17, 2005 | 390158
Texas:
Midland | City of Midland (04-06-A290P) | January 20, 2005, January 27, 2005, Midland Reporter Telegram | The Honorable Michael J. Canon, Mayor, City of Midland, 300 North Loraine, Midland, Texas 79701 | January 4, 2005 | 480477
Dallas | City of Richardson (04-06-A201P) | December 23, 2004, December 30, 2004, Dallas Morning News | The Honorable Gary Slagel, Mayor, City of Richardson, 411 West Arapaho Road, Richardson, Texas 75083 | March 30, 2005 | 480184
Washington: King | City of Issaquah (03-10-0465P) | November 17, 2004, November 24, 2004, Issaquah Press | The Honorable Ava Frisinger, Mayor, City of Issaquah, P.O. Box 1307, Issaquah, Washington 98027 | February 23, 2005 | 530079
Wisconsin: Dodge | Unincorporated Areas (04-05-A339P) | December 2, 2004, December 9, 2004, Dodge County Independent News | The Honorable Russell Kottke, Chairman, Dodge County Board of Supervisors, W8542 Laurel Hill Road, Fox Lake, Wisconsin 53933 | March 10, 2005 | 550094

(Catalog of Federal Domestic Assistance No. 83.100, “Flood Insurance.”)
Dated: March 5, 2005.
David I. Maurstad,
Acting Director, Mitigation Division, Emergency Preparedness and Response Directorate.

[FR Doc. 05-6431 Filed 3-31-05; 8:45 am]

BILLING CODE 9110-12-P